NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (#1208)—NSCL Site Visit.

Date and Time:

August 7, 2018; 8:00 a.m.-6:50 p.m.

August 8, 2018; 8:00 a.m.-12:00 p.m.

Place: National Superconducting Cyclotron Laboratory, 640 S Shaw Lane, East Lansing, MI 48824.

Type of Meeting: Part-Open.

Contact Person: Dr. Allena Opper, Program Director for Nuclear Physics, Division of Physics, National Science Foundation, 2415 Eisenhower Avenue, Room W 9216, Alexandria, VA 22314; Telephone: (703) 292-8958.

Purpose of Meeting: Site visit to provide an evaluation of the progress of the projects at the host site for the Division of Physics at the National Science Foundation.

Agenda

August 7, 2018

08:20 a.m.-09:05 a.m. Executive Session CLOSED

09:05 a.m.-09:25 a.m. Welcome OPEN

09:25 a.m.-09:55 a.m. NSCL Laboratory Overview OPEN

09:55 a.m.-10:50 a.m. Break

10:50 a.m.-11:20 a.m. Nuclear Structure Highlights OPEN

11:20 a.m.-11:50 a.m. Nuclear Astrophysics Highlight OPEN

11:50 a.m.-12:10 p.m. Accelerator Science Overview OPEN

12:10 p.m.-01:10 p.m. Lunch with graduate students

01:10 p.m.-01:55 p.m. Executive Session CLOSED

01:55 p.m.-02:35 p.m. Operations and Projects Overview OPEN

02:35 p.m.-02:55 p.m. NSCL User Program OPEN

02:55 p.m.-03:35 p.m. NSCL Diversity Plan OPEN

03:35 p.m.-03:55 p.m. NSCL Outreach Program OPEN

03:55 p.m.-04:15 p.m. Nuclear Structure Highlights OPEN

04:15 p.m.-04:30 p.m. Executive Session CLOSED

04:30 p.m.-05:50 p.m. Tour NSCL and FRIB OPEN

05:50 p.m.-06:50 p.m. Executive Session CLOSED

August 8, 2018

08:30 a.m.-09:00 a.m. Executive Session CLOSED

09:00 a.m.-09:30 a.m. Homework presentation and discussion OPEN

09:30 a.m.-10:15 a.m. Meet with User Representatives OPEN

10:15 a.m.-11:00 a.m. Meet with Postdocs OPEN

11:00 a.m.-12:00 p.m. Executive Session/Report Writing CLOSED

12:00 p.m. Adjourn

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: May 14, 2018.
Crystal Robinson,
Committee Management Officer.

[FR Doc. 2018-10560 Filed 5-16-18; 8:45 am]

BILLING CODE 7555-01-P